CONSUMER PRODUCT SAFETY COMMISSION

[Docket No. CPSC-2011-0014]

Agency Information Collection Activities; Proposed Collection; Comment Request; Generic Clearance for the Collection of Qualitative Feedback on Agency Service Delivery

AGENCY: Consumer Product Safety Commission.

ACTION: Notice.

SUMMARY: As required by the Paperwork Reduction Act of 1995, the Consumer Product Safety Commission (CPSC or Commission) requests comment on a proposed extension of approval of a generic clearance for the collection of qualitative feedback on agency service delivery, approved previously under OMB Control No. 3041-0148. CPSC will consider all comments received in response to this notice, before requesting an extension of this collection of information from the Office of Management and Budget (OMB).

DATES: Submit written or electronic comments on the collection of information by October 27, 2023.

ADDRESSES: You may submit comments, identified by Docket No. CPSC-2011-0014, by any of the following methods:

Electronic Submissions: Submit electronic comments to the Federal eRulemaking Portal at: https://www.regulations.gov. Follow the instructions for submitting comments. CPSC typically does not accept comments submitted by electronic mail (email), except through https://www.regulations.gov. CPSC encourages you to submit electronic comments by using the Federal eRulemaking Portal, as described above.

Mail/Hand Delivery/Courier/Confidential Written Submissions: Submit comments by mail, hand delivery, or courier to: Office of the Secretary, Consumer Product Safety Commission, 4330 East West Highway, Bethesda, MD 20814; telephone: (301) 504-7479. If you wish to submit confidential business information, trade secret information, or other sensitive or protected information that you do not want to be available to the public, you can submit such material by mail, hand delivery, or courier, or you can email it to: cpsc-os@cpsc.gov.

Instructions: All submissions must include the agency name and docket number for this notice. CPSC may post all comments without change, including any personal identifiers, contact information, or other personal information provided, to: www.regulations.gov. Do not submit electronically: confidential business information, trade secret information, or other sensitive or protected information that you do not want to be available to the public. If you wish to submit such information, please submit it according to the instructions for mail/hand delivery/courier/confidential written submissions.

Docket: For access to the docket to read background documents or comments received, go to: www.regulations.gov. Insert the docket number, CPSC-2011-0014, into the “Search” box, and follow the prompts.

FOR FURTHER INFORMATION CONTACT: Cynthia Gillham, Consumer Product Safety Commission, 4330 East West Highway, Bethesda, MD 20814; (301) 504-7791, or by email to: cgillham@cpsc.gov.

SUPPLEMENTARY INFORMATION: CPSC seeks to renew the following currently approved collection of information:

A. Background

Title: Generic Clearance for the Collection of Qualitative Feedback on Agency Service Delivery.

OMB Number: 3041-0148.

Type of Review: Renewal of collection.

Frequency of Response: On occasion.

Affected Public: Individuals and households, businesses and organizations, state, local, or tribal government.

Description of Collection: Executive Order 12862 (Sept. 11, 1993) encourages independent Federal agencies such as CPSC to provide service to the public that matches or exceeds the best service available in the private sector. To that end, CPSC seeks to renew OMB approval of a generic clearance to collect qualitative feedback on CPSC service delivery. Qualitative feedback means information that provides useful insights on perceptions and opinions but does not include statistical surveys that yield quantitative results that can be generalized to the population of study. This collection of information is necessary to enable CPSC to garner customer and stakeholder feedback in an efficient, timely manner, in accordance with CPSC's commitment to improving service delivery.

This feedback will provide insights into customer or stakeholder perceptions, experiences, and expectations; provide an early warning of issues with service; and help focus attention on areas where communication, training, or changes in operations might improve delivery of products or services. These collections will also allow for ongoing, collaborative, and actionable communications between CPSC and its customers and stakeholders.

B. Burden

Estimated Burden: CPSC will use a variety of instruments and platforms to collect information from respondents. CPSC estimates the burden of the collection of information is as follows:

Estimated Annual Reporting Burden
Type of collection | Number of respondents | Annual frequency per response | Hours per response | Total hours
Qualitative Surveys (3) | 600 | 1 | .25 | 150
Focus Groups | 200 | 1 | 4 | 800
Customer Satisfaction Surveys (3) | 600 | 1 | .25 | 150
Usability Tests | 200 | 1 | .5 | 100

Based on the above numbers, the total estimated burden for surveys, focus groups, and usability tests combined is estimated to be 1,200 hours annually. The total burden hours requested, 3,600, are based on the number of collections CPSC expects to conduct over the requested period for this clearance (1,200 hours annually x 3 years).

Assuming an hourly rate of $43.07 (U.S. Bureau of Labor Statistics, “Employer Costs for Employee Compensation,” All Civilian Workers, Total compensation, https://www.bls.gov/news.release/archives/ecec_06162023.pdf, March 2023) the estimated total burden cost is $51,684 annually. This collection has no associated operating, maintenance, or capital costs.

If appropriate, CPSC will collect information electronically and/or use online collaboration tools to reduce burden. No similar data are gathered or maintained by CPSC, or available from other sources known to CPSC.

Burden on Small Entities: Small businesses or other small entities may be involved in these efforts, but CPSC will minimize the burden of information collections approved under this clearance by sampling, asking for readily available information, and using short, easy-to-complete information collection instruments.

Costs to Federal Government: The anticipated cost to the Federal Government is approximately $51,574 annually. These costs are comprised of staff time for preparing questions, analyzing the responses, and conducting focus groups. CPSC estimates the total staff time could be four staff months annually. This is based on a GS-12 level salaried employee. The average annual wage rate for a mid-level salaried GS-12 employee in the Washington, DC metropolitan area (effective as of January 2023) is $106,759 (GS-12, step 5). This represents 69.0 percent of total compensation (U.S. Bureau of Labor Statistics, “Employer Costs for Employee Compensation,” March 2023, percentage of wages and salaries for all civilian employees, https://www.bls.gov/news.release/archives/ecec_06162023.pdf). Adding an additional 31.0 percent for benefits brings average annual compensation for a mid-range salaried GS-12 employee to $154,723. Assuming that approximately four staff months will be required annually, this results in an annual estimated cost of $51,574.

C. Request for Comments

CPSC solicits written comments from all interested persons about the proposed collection of information. CPSC specifically solicits information relevant to the following topics:

• Whether the collection of information described is necessary for the proper performance of CPSC's functions, including whether the information would have practical utility;

• Whether the estimated burden of the proposed collection of information is accurate;

• Whether the quality, utility, and clarity of the information to be collected could be enhanced; and

• Whether the burden imposed by the collection of information could be minimized by use of automated, electronic, or other technological collection techniques, or other forms of information technology.

Alberta E. Mills,
Secretary, Consumer Product Safety Commission.

[FR Doc. 2023-18416 Filed 8-25-23; 8:45 am]

BILLING CODE 6355-01-P